NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on February 7-9, 2008, 11545 Rockville Pike, Rockville, Maryland. The date of this meeting was previously published in the Federal Register on Monday, October 22, 2007 (72 FR 59574).

Thursday, February 7, 2008, Conference Room T-2B3, Two White Flint North, Rockville, Maryland

8:30 a.m.-8:35 a.m.: Opening Remarks by the ACRS Chairman (Open)—The ACRS Chairman will make opening remarks regarding the conduct of the meeting.

8:35 a.m.-10:30 a.m.: Final Review of the License Renewal Application for the Vermont Yankee Nuclear Power Station (Open)—The Committee will hear presentations by and hold discussions with representatives of the NRC staff and Entergy Nuclear Operations regarding the License Renewal Application for the Vermont Yankee Nuclear Power Station and the associated NRC staff's Final Safety Evaluation Report.

10:45 a.m.-12 p.m.: Draft Final Revision to Regulatory Guide 1.45 (DG-1173), “Guidance on Monitoring and Responding to Reactor Coolant System Leakage” (Open)—The Committee will hear presentations by and hold discussions with representatives of the NRC staff regarding draft final Revision 1 to Regulatory Guide 1.45 (DG-1173) and the staff's resolution of public comments.

1 p.m.-3 p.m.: Proposed Licensing Strategy for the Next Generation Nuclear Plant (NGNP) (Open/Closed)—The Committee will hear presentations by and hold discussions with representatives of the NRC staff and Department of Energy regarding the proposed licensing strategy for the Next Generation Nuclear Plant.

[Note: A portion of this session may be closed to prevent disclosure of information the premature disclosure of which would be likely to significantly frustrate implementation of a proposed agency action pursuant to 5 U.S.C. 552b(c)(9)(B).]

3:15 p.m.-5 p.m.: Cable Response to Live Fire (CAROLFIRE) Testing and Fire Model Improvement Program (Open)—The Committee will hear presentations by and hold discussions with representatives of the NRC staff and its contractors regarding the results of the CAROLFIRE Testing and Fire Model Improvement Program, including staff's resolution of public comments.

5:15 p.m.-7 p.m.: Preparation of ACRS Reports (Open)—The Committee will discuss proposed ACRS reports on matters considered during this meeting, as well as a proposed report on State-of-the-Art Reactor Consequence Analysis (SOARCA) program.

Friday, February 8, 2008, Conference Room T-2B3, Two White Flint North, Rockville, Maryland

8:30 a.m.-8:35 a.m.: Opening Remarks by the ACRS Chairman (Open)—The ACRS Chairman will make opening remarks regarding the conduct of the meeting.

8:35 a.m.-10:30 a.m.: Proposed BWR Owners Group (BWROG) Topical Report on Methodology for Calculating Available Net Positive Suction Head (NPSH) for ECCS Pumps (Open/Closed)—The Committee will hear presentations by and hold discussions with representatives of the NRC staff and the BWR Owners Group regarding the proposed topical report on Methodology for Calculating the Available NPSH for ECCS Pumps, including NRC staff's position on this topical report.

[Note: A portion of this session may be closed to discuss and protect information that is proprietary to BWROG and their contractors pursuant to 5 U.S.C. 552b(c)(4).]

10:45 a.m.-11:30 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

11:30 a.m.-11:45 a.m.: Reconciliation of ACRS Comments and Recommendations (Open)—The Committee will discuss the responses from the NRC Executive Director for Operations to comments and recommendations included in recent ACRS reports and letters.

11:45 a.m.-12 p.m.: Subcommittee Report (Open)—The Committee will hear a report by the Chairman of the ACRS Subcommittee on Reliability and Probabilistic Risk Assessment (PRA) regarding Draft NUREG-1855, “Guidance on the Treatment of Uncertainties Associated with PRAs in Risk-Informed Decisionmaking,” that was discussed during the meeting on December 19, 2007.

1 p.m.-3 p.m.: Draft ACRS Report on the NRC Safety Research Program (Open)—The Committee will discuss the draft ACRS report to the Commission on the NRC Safety Research Program.

3:15 p.m.-7 p.m.: Preparation of ACRS Reports (Open)—The Committee will discuss proposed ACRS reports.

Saturday, February 9, 2008, Conference Room T-2B3, Two White Flint North, Rockville, Maryland

7:30 a.m.-9:30 a.m.: Draft ACRS Report on the NRC Safety Research Program (Open)—The Committee will continue its discussion of the draft ACRS report on the NRC Safety Research Program.

9:45 a.m.-1 p.m.: Preparation of ACRS Reports (Open)—The Committee will continue its discussion of proposed ACRS reports.

1 p.m.-1:30 p.m.: Miscellaneous (Open)—The Committee will discuss matters related to the conduct of Committee activities and matters and specific issues that were not completed during previous meetings, as time and availability of information permit.

Procedures for the conduct of and participation in ACRS meetings were published in the Federal Register on September 26, 2007 (72 FR 54695). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) (Pub.L. 92-463), I have determined that it may be necessary to close portions of this meeting noted above to discuss and protect information classified as proprietary to BWROG, and their contractors pursuant to 5 U.S.C. 552b(c)(4), and information the premature disclosure of which would be likely to significantly frustrate implementation of a proposed agency action pursuant to 5 U.S.C. 552b(c)(9)(B).

Further information regarding topics to be discussed, whether the meeting has been canceled or rescheduled, as well as the Chairman's ruling on requests for the opportunity to present oral statements and the time allotted therefor can be obtained by contacting Mr. Girija S. Shukla, Cognizant ACRS staff (301-415-6855), between 7:30 a.m. and 4 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service.

Individuals or organizations requesting this service will be responsible for telephone line charges and for providing the equipment and facilities that they use to establish the video teleconferencing link. The availability of video teleconferencing services is not guaranteed.

Dated: January 17, 2008.
Annette Vietti-Cook,
Secretary of the Commission.

[FR Doc. E8-1189 Filed 1-23-08; 8:45 am]

BILLING CODE 7590-01-P